GENERAL SERVICES ADMINISTRATION

[Notice-OGP-2015-01; Docket 2015-0002; Sequence 17]

Federal Management Regulation; Redesignation of Federal Building

AGENCY: Office of Government-wide Policy (OGP), General Services Administration.

ACTION: Notice of a bulletin.

SUMMARY: The attached bulletin announces the redesignation of a Federal building.

DATES: This bulletin expires April 5, 2016. The building redesignation remains in effect until canceled or superseded by another bulletin.

FOR FURTHER INFORMATION CONTACT: General Services Administration, Office of Government-wide Policy (OGP), Attn: Carolyn Austin-Diggs, 1800 F Street NW., Washington, DC 20405, at 202-219-1800, or by email at carolyn.austin-diggs@gsa.gov.

SUPPLEMENTARY INFORMATION: This bulletin announces the redesignation of a Federal building. Public Law 114-16, 129 STAT. 200, dated May 22, 2015, designated the United States Customs and Border Protection Port of Entry located at First Street and Pan American Avenue in Douglas, Arizona, as the “Raul Hector Castro Port of Entry.”

Dated: September 28, 2015.
Denise Turner Roth,
Administrator of General Services.

General Services Administration

Redesignation of Federal Building

OGP-2015-01

TO: Heads of Federal Agencies

SUBJECT: Redesignation of Federal Building

1. What is the purpose of this bulletin? This bulletin announces the redesignation of a Federal building.

2. When does this bulletin expire? This bulletin announcement expires April 5, 2016. The building designation remains in effect until canceled or superseded by another bulletin.

3. Redesignation. The former and new name of the redesignated building is as follows:

Former name | New name
United States Customs and Border Protection Port of Entry | Raul Hector Castro Port of Entry.
First Street and Pan American Avenue, Douglas, Arizona | First Street and Pan American Avenue, Douglas, Arizona.

4. Who should we contact for further information regarding redesignation of this Federal building? U.S. General Services Administration, Office of Government-wide Policy (OGP), Attn: Carolyn Austin-Diggs, 1800 F Street NW., Washington, DC 20405, telephone number: 202-219-1800, or email at Carolyn.austin-diggs@gsa.gov.

Denise Turner Roth,
Administrator of General Services.

[FR Doc. 2015-25152 Filed 10-2-15; 8:45 am]

BILLING CODE 6820-14-P